NUCLEAR REGULATORY COMMISSION

[Docket No. 50-263; License No. DPR-22]

Northern States Power Company (Monticello, Unit No. 1); Exemption

I

Northern States Power Company (NSP or the licensee) is the holder of Facility Operating License No. DPR-22, which authorizes operation of the Monticello Nuclear Generating Plant (the facility) at steady state core power levels not in excess of 1775 megawatts thermal. The facility consists of a boiling water reactor, located in Wright County at the licensee's site in Wright and Sherburne Counties, Minnesota. The license provides, among other things, that Monticello is subject to all rules, regulations, and orders of the Commission now or hereafter in effect.

II

Pursuant to 10 CFR 55.59(a)(1), each licensed operator is required to successfully complete a requalification program developed by the licensee that has been approved by the Commission. This program is to be conducted for a continuous period not to exceed 24 months in duration and, upon its conclusion, must be promptly followed by a successive requalification program. In addition, pursuant to 10 CFR 55.59(a)(2), each licensed operator must also pass a comprehensive requalification written examination and an annual operating test.

III

By letter dated January 19, 2000, NSP requested an exemption under 10 CFR 55.11 from the requirements of 10 CFR 55.59(a)(2). The schedular exemption requested will extend the current Monticello requalification program from March 9, 2000, to May 12, 2000. The requested exemption would constitute a one-time extension of the requalification program duration.

The regulation at 10 CFR 55.11 states that “The Commission may, upon application by an interested person, or upon its own initiative, grant such exemptions from the requirements of the regulations in this part as it determines are authorized by law and will not endanger life or property and are otherwise in the public interest.”

IV

The Commission has determined that, pursuant to 10 CFR 55.11, granting an exemption to NSP from the requirements in 10 CFR 55.59(a)(1) and (a)(2) is authorized by law and will not endanger life or property and is otherwise in the public interest. To require scheduling of the comprehensive examination of the licensee's operators and staff in order to support the 24-month requalification cycle could have a detrimental effect on the public interest, because it could prolong the current plant refueling outage without a net benefit to safety. Further, this one-time exemption will allow additional operator support during plant shutdown conditions, which will provide a safety enhancement during plant shutdown operations and post-maintenance testing. The affected licensed operators will continue to demonstrate and possess the required levels of knowledge, skills, and abilities needed to safely operate the plant throughout the transitional period via continuation of the current satisfactory licensed operator requalification program. Accordingly, the Commission hereby grants NSP an exemption, on a one-time only basis, from the schedular requirements of 10 CFR 55.59(a)(1) and (a)(2) to allow the current Monticello requalification program to be extended beyond 24 months, not to exceed 27 months, and to expire on May 12, 2000.

Pursuant to 10 CFR 51.32, the Commission has also determined that the issuance of the exemption will have no significant impact on the environment. An Environmental Assessment and Finding of No Significant Impact was noticed in the Federal Register on February 16, 2000 (65 FR 7897).

This exemption is effective upon issuance. This exemption expires on May 12, 2000.

Dated at Rockville, Maryland this 16th day of February 2000.
For the Nuclear Regulatory Commission.
Bruce A. Boger,
Directory, Division of Inspection Program Management, Office of Nuclear Reactor Regulation.

[FR Doc. 00-4254 Filed 2-22-00; 8:45 am]

BILLING CODE 7590-01-P